DEPARTMENT OF DEFENSE

Office of the Secretary

Federal Advisory Committee; Defense Business Board (DBB)

AGENCY: Department of Defense (DoD).

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Defense Business Board (hereafter, “DBB” or “Board”) will meet on July 22, 2010, at the Pentagon Conference Center. Subject to the availability of space, the meeting is open to the public.

DATES: The meeting will be held on Thursday, July 22, 2010, from 9 a.m. to 9:45 a.m.

ADDRESSES: The meeting will be held at the Pentagon Conference Center, Room B-6, Washington, DC (escort required, see below).

FOR FURTHER INFORMATION CONTACT: For meeting information please contact Ms. Debora Duffy, Defense Business Board, 1155 Defense Pentagon, Room 5B-1088A, Washington, DC 20301-1155, Debora.Duffy@osd.mil, (703) 697-2168. The Board's Designated Federal Officer (DFO) is Ms. Phyllis Ferguson, Defense Business Board, 1155 Defense Pentagon, Room 5B-1088A, Washington, DC 20301-1155, Phyllis.Ferguson@osd.mil, (703) 695-7563.

SUPPLEMENTARY INFORMATION:

Background

At this meeting, the Board will deliberate partial findings and draft recommendations from the “Reducing Overhead Improving Business Operations” Task Group. The mission of the Board is to advise the Secretary of Defense on effective strategies for implementation of best business practices of interest to the Department of Defense.

Availability of Materials for the Meeting

A copy of the draft agenda for the July 22, 2010, meeting and the terms of reference for the Task Group may be obtained from the Board's Web site at http://dbb.defense.gov/meetings.html under “Upcoming Meetings: 22 July 2010.”

Public's Accessibility to the Meeting

Pursuant to 5 U.S.C. 552b and 41 CFR 102-3.140 through 102-3.165, and the availability of space, this meeting is open to the public. Seating is on a first-come basis. All members of the public who wish to attend the meeting must contact Ms. Duffy (see FOR FURTHER INFORMATION CONTACT) no later than noon on Wednesday, July 14th to register and make arrangements for a Pentagon escort, if necessary. Public attendees requiring escort should arrive at the Pentagon Metro Entrance in time to complete security screening by no later than 8:30 a.m. To complete security screening, please come prepared to present two forms of identification: (1) A government-issued photo I.D., and (2) any type of secondary I.D. which verifies the individual's name (i.e. debit card, credit card, work badge, social security card).

Special Accommodations: Individuals requiring special accommodations to access the public meeting should contact Ms. Duffy at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public session.

Written comments should be received by the DFO at least five (5) business days prior to the meeting date so that the comments may be made available to the Board for their consideration prior to the meeting. Written comments should be submitted via email to the address for the DFO (see FOR FURTHER INFORMATION CONTACT) in the following formats (Adobe Acrobat, WordPerfect, or Word format). Please note: Since the Board operates under the provisions of the Federal Advisory Committee Act, as amended, all public presentations will be treated as public documents and will be made available for public inspection, up to and including being posted on the Board's Web site.

Dated: June 16, 2010.
Mitchell S. Bryman,
Alternate OSD Federal Register Liaison Officer, Department of Defense.

[FR Doc. 2010-14871 Filed 6-18-10; 8:45 am]

BILLING CODE 5001-06-P